DEPARTMENT OF COMMERCE

National Oceanic and Atmospheric Administration

50 CFR Part 648

[Docket No. 231107-0264]

RIN 0648-BM55

Fisheries of the Northeastern United States; Mid-Atlantic Blueline Tilefish and Golden Tilefish Fisheries; 2024 Specifications

AGENCY: National Marine Fisheries Service (NMFS), National Oceanic and Atmospheric Administration (NOAA), Commerce.

ACTION: Proposed rule; request for comments.

SUMMARY: In this action, NMFS proposes to maintain status quo harvest limits for the 2024 golden tilefish and blueline tilefish fisheries north of the North Carolina/Virginia border, to shift the recreational season for blueline tilefish to May 15 through November 14, and to modify regulations to reflect the January 1 start date of the golden tilefish fishing year. The proposed action is necessary to establish allowable harvest levels and other management measures to prevent overfishing while allowing optimum yield, consistent with the Magnuson-Stevens Fishery Conservation and Management Act and the Tilefish Fishery Management Plan.

DATES: Comments must be received on December 14, 2023.

ADDRESSES: You may submit comments on this document, identified by NOAA-NMFS-2023-0121, by any of the following methods:

• Electronic Submission: Submit all electronic public comments via the Federal e-Rulemaking Portal. Go to https://www.regulations.gov and enter NOAA-NMFS-2023-0121 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter“N/A” in the required fields if you wish to remain anonymous).

Copies of the supporting documents for these proposed specifications are available from Dr. Christopher M. Moore, Executive Director, Mid-Atlantic Fishery Management Council, 800 North State Street, Suite 201, Dover, DE 19901. These documents are also accessible via the internet at https://www.mafmc.org.

FOR FURTHER INFORMATION CONTACT: Douglas Potts, douglas.potts@noaa.gov, 978-281-9241.

SUPPLEMENTARY INFORMATION:

Background

The golden tilefish and blueline tilefish fisheries north of the North Carolina/Virginia border are managed by the Mid-Atlantic Fishery Management Council (the Council) under the Tilefish Fishery Management Plan (FMP), which outlines the Council's process for establishing annual specifications. The Tilefish FMP requires the Council to recommend acceptable biological catch (ABC), annual catch limit (ACL), annual catch target (ACT), total allowable landings (TAL), and other management measures for the commercial and recreational sectors of the fisheries. The Council's Scientific and Statistical Committee (SSC) provides ABC recommendations for both species to the Council to derive these catch limits. The Council makes recommendations to NMFS that cannot exceed the recommendation of its SSC. The Council's recommendations must include supporting documentation concerning the environmental, economic, and social impacts of the recommendations. We are responsible for reviewing these recommendations to ensure that they achieve the FMP objectives and are consistent with all applicable laws. Following review, NMFS publishes the final specifications in the Federal Register.

Proposed Specifications

The proposed 2024 specifications for blueline and golden tilefish are detailed in Tables 1 and 2. These values are status quo from 2023 and are unchanged from the projected 2024 specifications we previously announced in the final rule for the 2022-2024 Blueline Tilefish Specifications (87 FR 66245, November 3, 2022) and the final rule for Framework Adjustment 7 to the Tilefish FMP (87 FR 67830, November 10, 2022).

Table 1—Proposed Blueline Tilefish 2024 Specifications
ABC—North of NC/VA line | 100,520 lb (45.6 mt).
Recreational ACL/ACT | 73,380 lb (33.3 mt).
Commercial ACL/ACT | 27,140 lb (12.3 mt).
Recreational TAL | 71,912 lb (32.6 mt).
Commercial TAL | 26,869 lb (12.2 mt).

Table 2—Proposed Golden Tilefish 2024 Specifications
ABC | 1,964,319 lb (891 mt).
ACL | 1,964,319 lb (891 mt).
IFQ fishery ACT | 1,763,478 lb (800 mt).
Incidental fishery ACT | 92,815 lb (42 mt).
IFQ fishery TAL = IFQ ACT (no discards permitted in fishery) | 1,763,478 lb (800 mt).
Incidental fishery TAL = Incidental fishery ACT—discards | 75,410 lb (42 mt).

This action would not change the landing limits for the commercial fisheries. A vessel fishing under a Federal commercial tilefish vessel permit would continue to be prohibited from possessing more than 500 pounds (lb) (227 kilograms (kg)) of gutted golden tilefish at any time, or 50 percent, by weight, of the total of all species, including golden tilefish, being landed (whichever is less). This landing limit does not apply to a vessel authorized to land golden tilefish under a Tilefish IFQ permit. A vessel fishing under a commercial tilefish permit would also continue to be prohibited from possessing more than 500 lb (227 kg) of gutted blueline tilefish per trip. If 70 percent of the blueline tilefish commercial TAL is landed, the Regional Administrator may reduce the blueline tilefish possession limit to 300 lb (136 kg).

This action would not change the recreational management measures for golden or blueline tilefish, other than the season change discussed below. Any vessel used to fish recreationally for golden or blueline tilefish must have the appropriate Federal vessel permit. Boats used to take anglers for hire must have the Charter/Party Tilefish Permit while private recreational vessels need to have the Private Recreational Tilefish Permit. Both permit types require the submission of vessel trip reports. Additional information about permitting and reporting requirements is available from the Greater Atlantic Regional Fisheries Office's Permits Office at (978) 282-8438 or NMFS.GAR.Permits@noaa.gov.

The golden tilefish recreational possession limit for charter/party and private recreational anglers is 8 golden tilefish per angler per trip. Anglers may not retain golden tilefish unless exclusively using rod and reel fishing gear with a maximum limit of 5 hooks per rod. The blueline tilefish recreational possession limit depends on the type of fishing vessel. Anglers fishing from a private vessel that has been issued a valid Federal Tilefish Private Recreational Permit are allowed to keep up to 3 blueline tilefish per person per trip. Anglers fishing from a for-hire vessel that has been issued a valid Federal Tilefish Party/Charter Permit but does not have a current U.S. Coast Guard safety inspection sticker can retain up to 5 blueline tilefish per person per trip. Finally, anglers on for-hire vessels that have both a valid Federal Tilefish Party/Charter Permit and a current U.S. Coast Guard safety inspection sticker can retain up to 7 blueline tilefish per person per trip.

The 2024 fishing year for golden tilefish and blueline tilefish will begin on January 1, 2024. The regulations include rollover provisions for both species that would allow the fisheries to operate under status quo specifications if this action is not finalized before then.

Blueline Tilefish Recreational Season

At its June 2023 meeting, the MAFMC voted to recommend changing the recreational season for blueline tilefish from May 1 through October 31 to May 15 through November 14. The Council had received feedback from participants in this fishery suggesting the recreational blueline tilefish season be shifted forward by about 2 weeks to better match the recreational black sea bass season in most states. In some areas, anglers report it is common to catch black sea bass when targeting blueline tilefish or to stop and target black sea bass on their way out to blueline tilefish fishing grounds. Therefore, the recommendation was intended to better align the blueline tilefish season with the black sea bass season in most states in an effort to minimize regulatory black sea bass discards as well as to help control temporal efforts on both fisheries. A review of both angler feedback as well as vessel trip report data from for-hire vessels suggests shifting the recreational blueline tilefish season to May 15 to November 14 would help reduce black sea bass discards with minimal impact on the blueline tilefish recreational fishery and would result in no change to the number of days of the current blueline tilefish recreational season.

Corrections

The final rule to implement Framework Adjustment 7 to the Tilefish FMP (87 FR 67830, November 10, 2022) moved the start of the fishing year for golden tilefish from November 1 to January 1. However, the rule did not change the following ancillary dates in the regulations that derive from the start of the fishing year, including: the date by which an Individual Fishing Quota (IFQ) permit application must be submitted to ensure the IFQ permit is issued before the start of the fishing year; the date when an IFQ permit ceases to be valid (i.e., the last day of the fishing year); and the cut-off date for submitting an IFQ transfer application for the current fishing year. This rule proposes to adjust those dates in the regulations based on January 1 being the start of the fishing year.

Classification

Pursuant to section 304(b)(1)(A) of the Magnuson Stevens Fishery Conservation and Management Act (Magnuson-Stevens Act), the NMFS Assistant Administrator has determined that this proposed rule is consistent with the Tilefish FMP, other provisions of the Magnuson-Stevens Act, and other applicable law, subject to further consideration after public comment.

This proposed rule has been determined to be not significant for purposes of Executive Order 12866.

The Chief Counsel for Regulation of the Department of Commerce certified to the Chief Counsel for Advocacy of the Small Business Administration (SBA) that this proposed rule, if adopted, would not have a significant economic impact on a substantial number of small entities.

The 2024 harvest quotas in this rule are status quo and were previously certified not to have a significant economic impact on a substantial number of small entities under the Regulatory Flexibility Act during the rulemaking for the 2022-2024 Specifications for the Blueline Tilefish Fishery (87 FR 66245, November 3, 2022) and Framework Adjustment 7 to the Tilefish Fishery Management Plan (87 FR 67830, November 10, 2022). No comments were received that would change those previous certifications.

The new management measures proposed by this action apply to vessel owners participating in the recreational blueline tilefish fishery. A total of 535 affiliates had a federal party/charter permit for tilefish during 2020-2022.

For Regulatory Flexibility Act purposes, NOAA's National Marine Fisheries Service has established a size standard for small businesses, including their affiliated operations, whose primary industry is commercial fishing (see 50 CFR 200.2). A business primarily engaged in commercial fishing (NAICS code 11411) is classified as small if it is independently owned and operated, is not dominant in its field of operation (including its affiliates), and has combined annual receipts not in excess of $11.0 million for all its affiliated operations worldwide. The Small Business Administration has established size standards for all other major industry sectors in the U.S., including defining for-hire fishing firms (NAICS code 487210) as small when their receipts are less than or equal to $8 million. All of the 535 affiliates with Federal party/charter permits were categorized as small businesses based on their average 2018-2022 revenues. Of these, 249 affiliates reported that the majority of their revenues in 2022 came from for-hire fishing.

The proposed recreational season for blueline tilefish would not result in a change to the number of fishing days and is unlikely to significantly affect the timing of when anglers can fish for this species. The proposed change would not likely result in a change in the number of for-hire trips, for-hire revenues, or overall impacts to recreational for-hire businesses, assuming all other factors which affect revenues remain unchanged, and, as a result, this action will not have a significant economic impact on a substantial number of small entities. As a result, an initial regulatory flexibility analysis is not required and none has been prepared.

List of Subjects in 50 CFR Part 648

Fisheries, Fishing, Reporting and recordkeeping requirements.

Dated: November 7, 2023.
Samuel D. Rauch, III,
Deputy Assistant Administrator for Regulatory Programs, National Marine Fisheries Service.

For the reasons set out in the preamble, NMFS proposes to amend 50 CFR part 648 as follows:

PART 648—FISHERIES OF THE NORTHEASTERN UNITED STATES

1. The authority citation for part 648 continues to read as follows:

Authority: 16 U.S.C. 1801 et seq.

2. In § 648.294, revise paragraphs (b)(1)(ii), (b)(2) and (3), and (e)(4) to read as follows:

§ 648.294 Golden tilefish individual fishing quota (IFQ) program.

* * * * *

(b) * * *

(1) * * *

(ii) Renewal applications. Applications to renew an IFQ allocation permit must be received by November 15 to be processed in time for the January 1 start of the next fishing year. Renewal applications received after this date may not be approved, and a new permit may not be issued before the start of the next fishing year. An IFQ allocation permit holder must renew his/her IFQ allocation permit on an annual basis by submitting an application for such permit prior to the end of the fishing year for which the permit is required. Failure to renew an IFQ allocation permit in any fishing year will result in any IFQ quota share held by that IFQ allocation permit holder to be considered abandoned and relinquished.

(2) Issuance. Except as provided in subpart D of 15 CFR part 904, and provided an application for such permit is submitted by November 15, as specified in paragraph (b)(1)(ii) of this section, NMFS shall issue annual IFQ allocation permits on or before December 31 to those who hold IFQ quota share as of November 1 of the current fishing year. From November 1 through December 31, permanent transfer of IFQ quota share is not permitted, as described in paragraph (e)(4) of this section.

(3) Duration. An annual IFQ allocation permit is valid until December 31 of each fishing year unless it is suspended, modified, or revoked pursuant to 15 CFR part 904; revised due to a transfer of all or part of the IFQ quota share or annual IFQ allocation under paragraph (e) of this section; or suspended for non-payment of the cost recovery fee as described in paragraph (h)(4) of this section.

* * * * *

(e) * * *

(4) Application for an IFQ allocation transfer. Any IFQ allocation permit holder applying for either permanent transfer of IFQ quota share or temporary transfer of annual IFQ allocation must submit a completed IFQ Allocation Transfer Form, available from NMFS. The IFQ Allocation Transfer Form must be submitted to the NMFS Greater Atlantic Regional Fisheries Office at least 30 days before the date on which the applicant desires to have the IFQ allocation transfer effective. The Regional Administrator shall notify the applicants of any deficiency in the application pursuant to this section. Applications for permanent IFQ quota share allocation transfers must be received by November 1 to be processed and effective before annual IFQ allocations are issued for the next fishing year. Applications for temporary IFQ allocation transfers must be received by December 10 to be processed for the current fishing year.

* * * * *

3. In § 648.296, revise paragraph (b) introductory text to read as follows:

§ 648.296 Tilefish recreational possession limits and gear restrictions.

* * * * *

(b) Blueline tilefish. The recreational blueline tilefish fishery is open May 15 through November 14, and closed November 15 through May 14.

* * * * *

[FR Doc. 2023-25064 Filed 11-13-23; 8:45 am]

BILLING CODE 3510-22-P